DEPARTMENT OF COMMERCE

National Oceanic and Atmospheric Administration

[RTID 0648-XC127]

Marine Mammals; File No. 21476

AGENCY: National Marine Fisheries Service (NMFS), National Oceanic and Atmospheric Administration (NOAA), Commerce.

ACTION: Notice; receipt of application for permit amendment.

SUMMARY: Notice is hereby given that Lars Bejder, Ph.D., University of Hawaii at Manoa, 46-007 Lilipuna Road, Kaneohe, HI 96744, has applied for an amendment to scientific research Permit No. 21476-01.

DATES: Written, telefaxed, or email comments must be received on or before August 1, 2022.

ADDRESSES: The application and related documents are available for review by selecting “Records Open for Public Comment” from the “Features” box on the Applications and Permits for Protected Species (APPS) home page, https://apps.nmfs.noaa.gov, and then selecting File No. 21476 from the list of available applications. These documents are also available upon written request via email to NMFS.Pr1Comments@noaa.gov.

Written comments on this application should be submitted via email to NMFS.Pr1Comments@noaa.gov. Please include File No. 21476 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Carrie Hubard, (301) 427-8401.

SUPPLEMENTARY INFORMATION: The subject amendment to Permit No. 21476-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 21476, issued on August 27, 2019 (84 FR 48600) and amendment No. 21476-01 issued on November 6, 2020 (85 FR 79169), authorizes the permit holder to conduct research on 32 species of marine mammals including the following ESA-listed species: blue (Balaenoptera musculus), bowhead (Balaena mysticetus), fin (B. physalus), Hawaiian insular false killer (Pseudorca crassidens), humpback (Megaptera novaeangliae), sei (B. borealis), sperm (Physeter macrocephalus), and Western North Pacific gray (Eschrichtius robustus) whales. Authorized research may occur in U.S. and international waters of the Pacific Ocean near Hawaii, Alaska, and U.S. territories. Permitted research activities during unmanned aerial surveys and vessel surveys include photography and video recording (above water and underwater), photogrammetry, counts, passive acoustic recording, biological sampling (skin and blubber biopsy, sloughed skin, exhaled air, and feces), and suction-cup tagging.

The permit holder is requesting the permit be amended to increase the authorized takes from 1,000 to 3,000 annually for Level B harassment activities for humpback whales in Hawaii. No changes to the permitted objectives, methods, or locations are proposed. The permit expires on August 31, 2024.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 27, 2022.
Julia M. Harrison,
Chief, Permits and Conservation Division, Office of Protected Resources, National Marine Fisheries Service.

[FR Doc. 2022-14030 Filed 6-29-22; 8:45 am]

BILLING CODE 3510-22-P